DEPARTMENT OF ENERGY

Federal Energy Regulatory Commission

Combined Notice of Filings #2

December 27, 2005.

Take notice that the Commission received the following electric rate filings.

Docket Numbers: ER02-2001-000; ER99-3855-000; ER99-2928-000; ER99-2300-000.

Applicants: Cleco Power LLC; Cleco Evangeline LLC; Cleco Marketing & Trading LLC.

Description: Cleco Companies request an Extension of Time to Comply with EQR for Q1, Q2, and Q3 2005 etc. to identify and correct errors.

Filed Date: 12/16/2005.

Accession Number: 20051216-5093.

Comment Date: 5 p.m. Eastern Time on Friday, January 6, 2006.

Docket Numbers: ER05-1086-003.

Applicants: ISO New England Inc.

Description: ISO New England Inc submits the Coordination Agreement with the New Brunswick System Operator Inc in compliance with FERC's 11/23/05 Letter Order.

Filed Date: 12/16/2005.

Accession Number: 20051221-0090.

Comment Date: 5 p.m. Eastern Time on Friday, January 6, 2006.

Docket Numbers: ER05-1362-001.

Applicants: Midwest Independent Transmission System Operator, Inc.

Description: Midwest Independent Transmission System Operator Inc submits the Facilities Construction Agreement among Prairie State Generator Co LLC, et al.

Filed Date: 12/15/2005.

Accession Number: 20051219-0277.

Comment Date: 5 p.m. Eastern Time on Thursday, January 5, 2006.

Docket Numbers: ER05-1475-003.

Applicants: Midwest Independent Transmission System Operator, Inc.

Description: Midwest Independent Transmission System Operator, Inc submits a supplemental informational filing to its 9/12/05 filing proposing revisions to its Open Access Transmission and Energy Markets Tariff etc.

Filed Date: 12/15/2005.

Accession Number: 20051219-0293.

Comment Date: 5 p.m. Eastern Time on Thursday, January 5, 2006.

Docket Numbers: ER06-53-001.

Applicants: Alabama Power Company.

Description: Alabama Power Co's compliance filing of the Delivery Point Specification Sheet for the Utilities Board of the City of Foley dba Riveria Utilities' Seminole and Point Clear delivery points etc.

Filed Date: 12/16/2005.

Accession Number: 20051220-0045.

Comment Date: 5 p.m. Eastern Time on Friday, January 6, 2006.

Docket Numbers: ER06-195-001.

Applicants: K Road BG Management LLC.

Description: K Road BG Management, LLC submits an updated version of Sheet No. 3 of the market based rate tariff to reflect minor corrections.

Filed Date: 12/16/2005.

Accession Number: 20051221-0093.

Comment Date: 5 p.m. Eastern Time on Tuesday, January 03, 2006.

Docket Numbers: ER06-327-000; OA06-2-000; ER06-328-000.

Applicants: Hardee Power Partners Limited; Tampa Electric Company.

Description: Hardee Power Partners Limited submits the Seventh Amendment dated 8/29/05 with Seminole Electric Cooperative, Inc to the agreement for sale and purchase of capacity and energy dated 7/27/89 etc.

Filed Date: 12/15/2005.

Accession Number: 20051219-0257.

Comment Date: 5 p.m. Eastern Time on Thursday, January 5, 2006.

Docket Numbers: ER06-330-000.

Applicants: Entergy Arkansas, Inc.

Description: Entergy Services, Inc on behalf of Entergy Arkansas, Inc submits the Thirty-fifth Amendment to the Power Coordination, Interchange and Transmission Service Agreement with Arkansas Cooperative Corp.

Filed Date: 12/15/2005.

Accession Number: 20051219-0291.

Comment Date: 5 p.m. Eastern Time on Thursday, January 5, 2006.

Docket Numbers: ER06-331-000.

Applicants: Midwest Independent Transmission System Operator, Inc.

Description: Midwest Independent Transmission System Operator, Inc submits proposed revisions to its Open Access Transmission and Energy Markets Tariff, FERC Electric Tariff, Third Revised Volume No.1.

Filed Date: 12/15/2005.

Accession Number: 20051219-0290.

Comment Date: 5 p.m. Eastern Time on Thursday, January 5, 2006.

Docket Numbers: ER06-332-000.

Applicants: ISO New England Inc.

Description: ISO New England, Inc submits a copy of State Certification of the Massachusetts Department of Telecommunications & Energy designating all authorized persons to receive confidential Market Information etc.

Filed Date: 12/15/2005.

Accession Number: 20051219-0289.

Comment Date: 5 p.m. Eastern Time on Thursday, January 5, 2006.

Docket Numbers: ER06-333-000.

Applicants: California Independent System Operator Corporation.

Description: California Independent System Operator Corp submits Amendment No. 1 to the Interconnected Control Area Operating Agreement between ISO and Salt River Project Agricultural Improvement and Power District.

Filed Date: 12/15/2005.

Accession Number: 20051219-0337.

Comment Date: 5 p.m. Eastern Time on Thursday, January 5, 2006.

Docket Numbers: ER06-335-000.

Applicants: New York State Electric & Gas Corporation.

Description: New York State Electric & Gas Corp submits a Notice of Cancellation of its FERC Electric Tariff, Original Volume No. 4.

Filed Date: 12/15/2005.

Accession Number: 20051219-0276.

Comment Date: 5 p.m. Eastern Time on Thursday, January 5, 2006.

Docket Numbers: ER06-336-000.

Applicants: Aquila, Inc.

Description: Aquila, Inc on behalf of Aquila Networks-WPK et al. submits revisions to its existing market-based sales tariff and cost-based sales tariff etc.

Filed Date: 12/16/2005.

Accession Number: 20051220-0016.

Comment Date: 5 p.m. Eastern Time on Friday, January 6, 2006.

Docket Numbers: ER06-337-000.

Applicants: Midwest ISO.

Description: Midwest Independent Transmission System Operator, Inc submits a notice of cancellation for its Service Agreement for Network Integration Transmission Service, designated as Service Agreement No. 540 etc.

Filed Date: 12/16/2005.

Accession Number: 20051220-0010.

Comment Date: 5 p.m. Eastern Time on Friday, January 6, 2006.

Docket Numbers: ER06-338-000.

Applicants: Public Service Company of New Mexico.

Description: Public Service Co of New Mexico submits required ministerial changes to the pro forma Standard Large Generator Interconnection Procedures & Standard Large Generator Interconnection Agreement.

Filed Date: 12/16/2005.

Accession Number: 20051220-0011.

Comment Date: 5 p.m. Eastern Time on Friday, January 6, 2006.

Docket Numbers: ER06-339-000.

Applicants: Pacificorp.

Description: PacifiCorp submits 1st Revised Sheet No. 292 to PacifiCorp's 5th Revised Electric Tariff Volume No. 11.

Filed Date: 12/16/2005.

Accession Number: 20051220-0012.

Comment Date: 5 p.m. Eastern Time on Friday, January 6, 2006.

Docket Numbers: ER06-340-000.

Applicants: Kentucky Power Company.

Description: Kentucky Power Co submits a Cost-Based Formula Rate Agreement for Full Requirements Electric Service with the City of Vanceburg, Kentucky et al.

Filed Date: 12/16/2005.

Accession Number: 20051220-0013.

Comment Date: 5 p.m. Eastern Time on Friday, January 6, 2006.

Docket Numbers: ER06-341-000.

Applicants: Pacific Gas and Electric Company.

Description: Pacific Gas and Electric Co submits revised rate schedule sheets to First Revised Rate Schedules FERC No. 207 et al for the Must Run Service Agreement with California Independent System Operator Corp.

Filed Date: 12/16/2005.

Accession Number: 20051221-0031.

Comment Date: 5 p.m. Eastern Time on Friday, January 6, 2006.

Docket Numbers: ER06-342-000.

Applicants: Entergy Services, Inc. et al.

Description: Entergy Services, Inc, on behalf of Entergy Gulf States, Inc seeks acceptance of the EAI-EGS and EAI-EMI 2006 Bridge Contracts.

Filed Date: 12/16/2005.

Accession Number: 20051221-0030.

Comment Date: 5 p.m. Eastern Time on Friday, January 6, 2006.

Docket Numbers: ER06-352-000; ER05-375-000; ER02-1582-006; ER02-2102-007; ER00-2885-008; ER01-2765-007.

Applicants: CalBear Energy LP; Arroyo Energy LP; Mohawk River Funding, IV, LLC; Utility Contract Funding LLC; Cedar Brakes I, LLC; Cedar Brakes II, LLC.

Description: CalBear Energy, LP et al submits a notice of succession to notify FERC that as a result of a name change it has succeeded to the market-based rate schedule of Arroyo Energy LP.

Filed Date: 12/14/2005.

Accession Number: 20051223-0011.

Comment Date: 5 p.m. Eastern Time on Wednesday, January 04, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-8189 Filed 12-30-05; 8:45 am]

BILLING CODE 6717-01-P